DEPARTMENT OF HOMELAND SECURITY

Coast Guard

33 CFR Parts 100 and 165

[Docket Number USCG-2017-0064]

RIN 1625-AA08, AA00

Special Local Regulations and Safety Zones; Recurring Marine Events and Fireworks Displays Within the Fifth Coast Guard District

AGENCY: Coast Guard, DHS.

ACTION: Interim final rule.

SUMMARY: The Coast Guard is amending its special local regulations and safety zones established for recurring marine events and fireworks displays that take place within the Fifth Coast Guard District area of responsibility. This interim final rule revises the listing of events that informs the public of regularly scheduled marine parades, regattas, other organized water events, and fireworks displays that require additional safety measures provided by regulations. This interim final rule updates the list of recurring marine events with revisions to include additional events, change of date(s), and removal of events that no longer take place in the Fifth Coast Guard District. When these regulations are enforced, certain restrictions are placed on marine traffic in specified areas. This rulemaking project promotes efficiency by eliminating the need to produce a separate rule for each individual recurring event and serves to provide notice of the known recurring events requiring a special local regulation or safety zone throughout the year. This rule also removes regulations that are no longer effective or required.

DATES: This rule is effective without actual notice from June 13, 2017. For the purposes of enforcement, actual notice will be used from the date the rule was signed, May 31, 2017, until June 13, 2017.

ADDRESSES: To view documents mentioned in this preamble as being available in the docket, go to http://www.regulations.gov, type USCG-2017-0064 in the “SEARCH” box and click “SEARCH.” Click on Open Docket Folder on the line associated with this rule.

FOR FURTHER INFORMATION CONTACT: If you have questions on this rule, call or email Dennis Sens, Fifth Coast Guard District Office of Waterways Management, U.S. Coast Guard; telephone 757-398-6204, Dennis.M.Sens@uscg.mil.

SUPPLEMENTARY INFORMATION:

I. Table of Abbreviations

CFR Code of Federal Regulations

DHS Department of Homeland Security

FR Federal Register

NPRM Notice of proposed rulemaking

§ Section

U.S.C. United States Code

II. Public Participation and Comments

The Coast Guard published a notice of proposed rulemaking on April 6, 2017 (82 FR 16746). The public comment period for this NPRM closed on Monday, May 8, 2017; no comments were received.

Documents mentioned in this Interim Final Rule as being available in the docket, and all public comments, will be in our online docket at http://www.regulations.gov and can be viewed by following that Web site's instructions.

III. Background Information and Regulatory History

The Tables in the CFR that list annual and recurring special local regulations and safety zones for marine events and fireworks displays within Fifth Coast Guard District area of responsibility (AOR) are published under 33 CFR 100.501 and 165.506, respectively. These Tables were last amended September 14, 2016, through a previous rulemaking (81 FR 63075) that generated no adverse comments.

Publishing these regulatory updates in a single rulemaking promotes administrative efficiency and reduces costs involved in producing a separate rule for each individual recurring event. This rulemaking action also provides the public with notice through publication in the Federal Register of future recurring marine events and fireworks displays and their accompanying regulations, special local regulations, and safety zones. This rule provides separate tables for each Coast Guard Sector within the Fifth Coast Guard District.

Under 5 U.S.C. 553(d)(3), an agency may make a rule effective less than 30 days from publication of a final notice in the Federal Register when the agency for good cause finds that those procedures are impracticable, unnecessary, or contrary to the public interest. The Coast Guard finds that good cause exists for making this rule effective less than 30 days after publication in the Federal Register; it would be impracticable and contrary to the public interest to delay the effective date of this rulemaking regarding implementation of the new and revised special local regulations and safety zones. Immediate implementation is required because the special local regulations and safety zones must be established to protect the public from the dangers associated with these scheduled activities. Despite the immediate effective date of this final action, the public has been afforded reasonable time to prepare for the effective date of this rulemaking. These events are planned by the local communities where they take place, and accordingly, the public has received advanced notification of these upcoming events through local media outlets in addition to notification by the Coast Guard through publication of the NPRM. The provisions of this interim final rule which disestablish existing special local regulations and safety zones are effectively immediately in accordance with 5 U.S.C. 553(d)(1), as they relieve a restriction.

This interim rule is effective upon signature. This rule is prepared to provide the most up to date list of recurring marine events, special local regulations and safety zones. These recurring events are noticed to the public through local community media outlets and by event planners in conjunction with the communities in which they take place.

IV. Legal Authority and Need for Rule

The Coast Guard issues this rulemaking under authority in 33 U.S.C. 1231; 33 U.S.C. 1233; 50 U.S.C. 191; 33 CFR 1.05-1, 6.04-1, 6.04-6, and 160.5; Department of Homeland Security Delegation No. 0170.1. The Coast Guard has determined that potential hazards associated with marine events and fireworks displays that take place on and over navigable waters will be a safety concern for persons or vessels in the vicinity of these events. The purpose of this rule is to ensure safety of persons and vessels on the navigable waters in the safety zone before, during, and after the scheduled marine event.

The current lists of annual and recurring special local regulations and safety zones for marine events and fireworks displays within the Fifth Coast Guard District area of responsibility (AOR) are published under 33 CFR 100.501 and 165.506, respectively. This interim rule will add to, remove from, and amend 33 CFR 100.501 and 33 CFR 165.506 to create a comprehensive list of recurring marine events and fireworks displays requiring special local regulations and safety zones.

V. Discussion of the Rule

Special Local Regulations

This rule adds 3 new special local regulations for marine events, removes 1 regulation and revises 6 previously established regulations for marine events listed in the Table to § 100.501. Other than changes to the dates and locations of certain events, the other provisions in 33 CFR 100.501 remain unchanged.

The Coast Guard revises regulations at 33 CFR 100.501 by adding 3 new special local regulations. The special local regulations are listed in Table 1, including reference by section as printed in the Table to § 100.501.

Table 1
[Special local regulated areas added to 33 CFR 100.501]
Table to § 100.501 section | Location
1. (b.) 9 | Chesapeake Bay, Chesapeake Bay Bridge, MD.
2. (c.) 10 | James River, Midlothian, VA.
3. (d.) 4 | Masonboro Inlet, Banks channel, Motts channel, Wrightsville Beach, NC.

The Coast Guard amends the regulations at 33 CFR 100.501 by disestablishing the special local regulation previously listed in section (b.) of Table to 100.501; marine event—Maryland Swim for Life, Chester River, MD. The basis for removal of this marine event from regulatory enforcement includes limited vessel traffic in the area of the event, close proximity to shore, and shallow water depths.

This rule revises 6 preexisting special local regulations that involve change to marine event date(s) and/or coordinates. These events are listed in Table 2, with reference by section as printed in the Table to § 100.501.

Table 2
[Changes to special local regulation date(s) and coordinates]
Table to § 100.501 section | Location | Revision (date/coordinates)
1. (b.) 2 | Severn River, MD | dates.
2. (b.) 6 | Upper Potomac River, Washington, DC | dates.
3. (b.) 18 | Patuxent River, Solomons, MD | coordinates.
4. (b.) 19 | North Atlantic Ocean, Ocean City, MD | dates.
5. (b.) 21 | Hambrooks Bay, Choptank River, MD | dates.
6. (c.) 6 | Mill Creek, Hampton, VA | dates.

Based on the nature of marine events, the large numbers of participants and spectators, and the event locations, the Coast Guard has determined that the events listed in this rule could pose a risk to participants or waterway users if normal vessel traffic were to interfere with the event. Possible hazards include risks of injury or death resulting from near or actual contact among participant vessels and spectator vessels or mariners traversing through the regulated area. In order to protect the safety of all waterway users including event participants and spectators, this rule establishes special local regulations for the time and location of each marine event.

This rule prevents vessels from entering, transiting, mooring, or anchoring within areas specifically designated as regulated areas during the periods of enforcement unless authorized by the Captain of the Port (COTP) or designated Coast Guard Patrol Commander. The designated “Patrol Commander” includes a Coast Guard commissioned, warrant, or petty officer who has been designated by the COTP to act on their behalf. On-scene patrol commanders may be augmented by local, State, or Federal officials authorized to act in support of the Coast Guard.

Safety Zones

This rule revises 12 previously established safety zones and removes 6 safety zones listed in the Table to § 165.506. Other than changes to the dates of certain safety zones, the other provisions in 33 CFR 165.506 remain unchanged.

The Coast Guard proposed to add eight new safety zones in the previously published Notice of proposed rulemaking on April 6, 2017 (82 FR 16746). The NPRM also proposed to revise the coordinates described by latitude and longitude for the center point of 3 previously established safety zones. Both the new and revised safety zones proposed for 33 CFR 165.506 have been temporarily postponed and are not included in this interim final rule. This action was necessary to ensure compliance with environmental review and policy requirements established under the National Environmental Policy Act (NEPA). Upon completion of NEPA environmental analysis and review, the previously proposed safety zones may be included in a future revision to 33 CFR 165.506.

The rule revises 12 preexisting safety zones that involve changes to event date(s). These revised safety zones are shown in Table 3, with reference by section as printed in the Table to § 165.506.

Table 3
[Changes to safety zone date(s) and coordinates]
Table to § 165.506 Section | Location | Revision (date)
1. (b.) 1 | Upper Potomac River, Washington channel, Washington, DC | dates.
2. (b.) 6 | Baltimore Inner Harbor, Patapsco River, MD | dates.
3. (b.) 7 | Baltimore Inner Harbor, Patapsco River, MD | dates.
4. (b.) 9 | Patuxent River, Solomons Island, MD | dates.
5. (b.) 10 | Chesapeake Bay, Chesapeake Beach, MD | dates.
6. (b.) 13 | Potomac River, National Harbor, MD | dates.
7. (b.) 22 | Isle of Wight Bay, Ocean City, MD | dates.
8. (b.) 24 | Baltimore Inner Harbor, Patapsco River, MD | dates.
9. (c.) 5 | Chesapeake Bay, Norfolk, VA | dates.
10. (c.) 8 | John H. Kerr Reservoir, Clarksville, VA | dates.
11. (c.) 23 | Elizabeth River Eastern Branch, Norfolk, VA | dates.
12. (d.) 15 | Atlantic Intracoastal Waterway, Swansboro, NC | dates.

The Coast Guard amends regulations at 33 CFR 165.506 by disestablishing the following 6 safety zones listed in Table 4.

Table 4
[Safety Zones removed from 33 CFR 165.506]
Date(s) | Event | Regulated Area
1. May—last Saturday; July 4th | Fireworks display | Potomac River, Charles County, MD; vicinity east of Mount Vernon Estate.
2. October—1st Saturday | Fireworks display | Dukeharts Channel, Potomac River, MD.
3. July 4th | Fireworks display | Edenton Bay, Edenton, NC.
4. July 4th | Fireworks display | Pantego Creek, Belhaven, NC.
5. May—3rd Saturday | Fireworks display | Pasquotank River, Elizabeth City, NC.
6. October—2nd Saturday | Fireworks display | Atlantic Intracoastal Waterway, Bogue Inlet, Swansboro, NC.

Each year, organizations in the Fifth Coast Guard District sponsor fireworks displays in the same general location and time period. Each event uses a barge or an on-shore site near the shoreline as the fireworks launch platform. A safety zone is used to control vessel movement within a specified distance surrounding the launch platforms to ensure the safety of persons and property. Coast Guard personnel on scene may allow boaters within the safety zone if conditions permit.

The enforcement period for these safety zones is from 5:30 p.m. to 1 a.m. local time. However, vessels may enter, remain in, or transit through these safety zones during this time frame if authorized by the COTP or designated Coast Guard patrol commander on scene, as provided for in 33 CFR 165.23. This rule provides for the safety of life on navigable waters during the events. The regulatory text we are proposing appears at the end of this document.

Temporary Regulations

The Coast Guard amends regulations at 33 CFR 100.501 and 33 CFR 165.506 by removing the following 5 temporary sections listed in Table 5. These temporary sections are no longer effective but continue to appear in the CFR.

Table 5
[Special local regulated areas removed from 33 CFR 100.501 and safety zones removed from 33 CFR 165.506]
Temporary section | Citation | Regulation expired
1. 33 CFR § 100.35T-05-0276 | 77 FR 39630, July 5, 2012 | July 8, 2012.
2. 33 CFR § 100.35T-05-0482 | 77 FR 47520, August 9, 2012 | September 29, 2012.
3. 33 CFR § 165.T05-0330 | 78 FR 56611, September 13, 2013 | October 4, 2013.
4. 33 CFR § 165.T05-0495 | 78 FR 39601, July 2, 2013 | July 5, 2013.
5. 33 CFR § 165.T05-0723 | 79 FR 51490, August 29, 2014 | September 26, 2014.

The Coast Guard is removing 33 CFR 165.540 that was previously established to facilitate a large multi-year dredging project in the coastal Cape Fear River area. This project was completed by the U.S. Army Corps of Engineers and its contractors and accordingly a safety zone is no longer required for this purpose.

VI. Regulatory Analyses

We developed this rule after considering numerous statutes and Executive orders related to rulemaking. Below, we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action” under Executive Order 12866. Accordingly, it has not been reviewed by the Office of Management and Budget.

This regulatory action determination is based on the short amount of time that vessels will be restricted from regulated areas and the small size of these areas that are usually positioned away from high vessel traffic zones. Generally, vessels would not be precluded from getting underway, or mooring at any piers or marinas currently located in the vicinity of the regulated areas. Advance notifications would also be made to the local maritime community by issuance of Local Notice to Mariners, Broadcast Notice to Mariners, Marine information and facsimile broadcasts so mariners can adjust their plans accordingly. Notifications to the public for most events will typically be made by local newspapers, radio and TV stations. The Coast Guard anticipates that these special local regulated areas and safety zones will only be enforced one to three times per year.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit through a special local regulated area or safety zone may be small entities, for the reasons stated in section IV.A above, this proposed rule would not have a significant economic impact on any vessel owner or operator.

These special local regulated areas and safety zones will not have a significant economic impact on a substantial number of small entities for the following reasons: The Coast Guard will ensure that small entities are able to operate in the areas where events are occurring to the extent possible while ensuring the safety of event participants and spectators. The enforcement period will be short in duration and, in many of the areas, vessels can transit safely around the regulated area. Generally, permission to enter, remain in, or transit through these regulated areas during the enforcement may be given, when deemed safe to do so by the Coast Guard patrol commander on scene. Before the enforcement period, we will issue maritime advisories widely.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment.

This rule involves implementation of regulations within 33 CFR part 100 that apply to organized marine events on the navigable waters of the United States. Some marine events by their nature may introduce potential for adverse impact on the safety or other interest of waterway users or waterfront infrastructure within or close proximity to the event area. The category of water activities includes but is not limited to sail boat regattas, boat parades, power boat racing, swimming events, crew racing, and sail board racing. This section of the rule is categorically excluded from further review under paragraph 34(h) of Figure 2-1 of the Commandant Instruction M16475.lD, as the appropriate environmental analysis is contained in the permitting for the events. An environmental analysis checklist supporting this determination and a Record of Environmental Consideration are not required for this section of the rule.

This rule involves implementation of regulations at 33 CFR part 165 that establish safety zones on navigable waters of the United States for fireworks events. These safety zones are enforced for the duration of fireworks display events. The fireworks are generally launched from either a floating barge platform or immediately adjacent to navigable waters of the United States. The category of activities includes fireworks launched from barges or at the shoreline that generally rely on the use of navigable waters as a safety buffer. Fireworks displays may introduce potential hazards such as accidental discharge of fireworks, dangerous projectiles, and falling hot embers or other debris. This section of the rule is categorically excluded from further review under paragraph 34(g) of Figure 2-1 of the Commandant Instruction M16475.lD. A Record of Environmental Consideration (REC) supporting this determination is available in the docket where indicated in the ADDRESSES section of this preamble.

G. Protest Activities

The Coast Guard respects the First Amendment rights of protesters. Protesters are asked to contact the person listed in the FOR FURTHER INFORMATION CONTACT section to coordinate protest activities so that your message can be received without jeopardizing the safety or security of people, places, or vessels.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 continues to read as follows:

Authority: 33 U.S.C. 1233.

§ 100.35T05-0276 [Removed]

2. Remove § 100.35T05-0276.

§ 100.35T05-0482 [Removed]

3. Remove § 100.35T05-0482.

4. Revise § 100.501 to read as follows:

§ 100.501 Special Local Regulations; Marine Events within the Fifth Coast Guard District.

This section applies to the marine events listed in the Table to § 100.501. These regulations will be effective annually, for the duration of each event listed in the Table to § 100.501. Annual notice of the exact dates and times of the effective period of the regulation with respect to each event, the geographical area, and details concerning the nature of the event and the number of participants and type(s) of vessels involved will be published in Local Notices to Mariners and via Broadcast Notice to Mariners over VHF-FM marine band radio.

(a) Definitions. The following definitions apply to this section:

(1) Coast Guard Patrol Commander. A Patrol Commander (PATCOM) is a commissioned, warrant, or petty officer of the Coast Guard who has been designated by the respective Coast Guard Sector—Captain of the Port to enforce these regulations.

(2) Official patrol. Any vessel assigned or approved by the respective Captain of the Port with a commissioned, warrant, or petty officer on board and displaying a Coast Guard ensign.

(3) Spectators. All persons and vessels not registered with the event sponsor as participants or official patrol vessels.

(4) Regulated area. An area where Special local regulations apply to a specific described waterway to include creeks, sounds, bays, rivers and, oceans. Regulated areas include all waters of a specific body of water described with intent to define boundaries where the Coast Guard enforces Special local regulations. Boundaries may be described from shoreline to shoreline, reference bridges, or other fixed structures, by points and lines defined by latitude and longitude. All coordinates reference Datum: NAD 1983.

(b) Marine event patrol. The Coast Guard will assign a marine event patrol, as described in § 100.40, to each regulated event listed in the table. Additionally, a PATCOM will be assigned to oversee the patrol. The marine event patrol and PATCOM may be contacted on VHF-FM Channel 16. The PATCOM may terminate the event, or the operation of any vessel participating in the marine event, at any time if deemed necessary for the protection of life or property. Only designated marine event participants and their vessels and official patrol vessels are authorized to enter the regulated area.

(c) Special local regulations. (1) Controls on vessel movement. The PATCOM or designated marine event patrol may forbid and control the movement of all vessels in the regulated area(s). When hailed or signaled by an official patrol vessel, a vessel in these areas shall immediately comply with the directions given. Failure to do so may result in expulsion from the area, citation for failure to comply, or both.

(2) Directions, instructions, and minimum speed necessary. The operator of any vessel in the regulated area shall:

(i) Stop the vessel immediately when directed to do so by any Official Patrol and then proceed only as directed.

(ii) All persons and vessels shall comply with the instructions of the Official Patrol.

(iii) Vessel operators may request permission to enter and transit through a regulated area by contacting the PATCOM on VHF-FM channel 16. When authorized to transit through the regulated area, vessels shall proceed at the minimum speed necessary to maintain a safe course that minimizes wake near the race course or marine event area.

(3) Race area. This is an area described by a line bound by coordinates provided in latitude and longitude that outlines the boundary of a race area within the regulated area defined by this part. Only event sponsor designated participants or designated participating vessels and official patrol vessels are allowed to enter the race area. Persons or vessel operators may request authorization to enter and transit through the regulated area by contacting the PATCOM on VHF-FM Channel 16.

(4) Spectator area. This is an area described by a line bound by coordinates provided in latitude and longitude that outlines the boundary of a spectator area within the regulated area defined by this part. Spectators are only allowed inside the regulated area if they remain within a designated spectator area. All spectator vessels shall be anchored or operate at a No Wake Speed within the designated spectator area. On scene designated PATCOM representatives will direct spectator vessels to the spectator area. Spectators shall contact the PATCOM to request permission to pass through the regulated area. If permission is granted, spectators must pass directly through the regulated area at safe speed and without loitering.

(5) Buffer area. This is a neutral zone that surrounds the perimeter of a Race Area or Marine Event Area within the regulated area described by this part. The purpose of a buffer zone is to minimize potential collision conflicts with marine event participants or race boats and spectator vessels or nearby transiting vessels. This zone provides separation between a Race Area or Marine Event Area and a specified Spectator Area or other vessels that are operating in the vicinity of the Special local regulated area for marine event.

(6) Designated spectator area. Spectators are only allowed inside the regulated area if they remain within a designated spectator area. Spectators shall contact the PATCOM to request permission to either enter the Spectator Area or pass through the regulated area. If permission is granted, spectators may enter the Spectator Area or must pass directly through the regulated area as instructed by PATCOM at safe speed and without loitering.

(d) Contact information. Questions about marine events should be addressed to the local Coast Guard Captain of the Port for the area in which the marine event is occurring. Contact information is listed below. For a description of the geographical area of each Coast Guard Sector—Captain of the Port zone, please see subpart 3.25 of this chapter.

(1) Coast Guard Sector Delaware Bay—Captain of the Port Zone, Philadelphia, Pennsylvania: (215) 271-4940.

(2) Coast Guard Sector Maryland-National Capital Region—Captain of the Port Zone, Baltimore, Maryland: (410) 576-2525.

(3) Coast Guard Sector Hampton Roads—Captain of the Port Zone, Norfolk, Virginia: (757) 483-8567.

(4) Coast Guard Sector North Carolina—Captain of the Port Zone North Carolina: (877) 229-0770 or (910) 362-4015.

(e) Application for marine events. The application requirements of § 100.15 of this part apply to all marine events listed in the Table to § 100.501. For information on applying for a marine event permit, contact the Captain of the Port for the area in which the marine event will occur, at the phone numbers listed above.

(f) Enforcement periods. The enforcement periods for each of the Special local regulations listed in the Table to § 100.501 of this section are subject to change, but the duration of enforcement would remain the same or nearly the same total amount of time as stated in its table. In the event of a change, or for enforcement periods listed that do not allow a specific date or dates to be determined, the Captain of the Port will provide notice by publishing a Notice of Enforcement in the Federal Register, as well as issuing a Broadcast Notice to Mariners.

(g) Regulations for specific marine events. (1) Marine event: (b.) 7, U.S. Naval Academy Blue Angels Air Show. Severn River spectator area; except for a vessel in an emergency situation, a vessel may not anchor or maintain station within the spectator area described in Table to 100.501 (b.) 7 without the permission of the Captain of the Port or designated PATCOM. The Captain of the Port has designated this spectator area for commercial small passenger vessel use. This area is closed except for commercial small passenger vessels holding a valid Certificate of Inspection regulated under 46 CFR subchapters K and T (46 CFR 114.110, and 175.110). Vessels that meet the requirements of this section may request access to the Severn River spectator area by contacting the City of Annapolis Harbormaster at (410) 263-7973 or email harbormaster@annapolis.gov to obtain a vessel spectator area application. Vessel spectator area applications shall be submitted no later than 7 calendar days prior to the event date. Applicants will be notified by the Captain of the Port or representative regarding status of applications and further instructions. All vessels shall contact the PATCOM on VHF-FM channels 16 or 22A prior to transiting to the spectator area to confirm entry approval. Vessels approved for spectator area access shall follow the instructions issued by the PATCOM when entering the regulated area. The regulations for this event will restrict access to some of the anchorage grounds listed at 33 CFR 110.159, Annapolis Harbor, MD, specifically (2) Middle Ground Anchorage, (3) South Anchorage, and (4) Naval Anchorage for Small Craft.

(2) Marine event: (b.) 23, Baltimore Air Show. Patapsco River spectator area; except for a vessel in an emergency situation, a vessel may not anchor or hold station within the spectator area described in Table to 100.501 (b.) 23 without the permission of the Captain of the Port or designated PATCOM. The Captain of the Port has designated this spectator area for commercial small passenger vessel use. This area is closed except for commercial small passenger vessels holding a valid Certificate of Inspection regulated under 46 CFR subchapters K and T (46 CFR 114.110 and 175.110). Vessels that meet the requirements of this section may request access to the Patapsco River spectator area by contacting the Sail Baltimore at (410) 522-7300 or emailing info@sailbaltimore.org to obtain a vessel spectator area application. Vessel spectator area applications shall be submitted no later than 10 calendar days prior to the event date. Applicants will be notified by the Captain of the Port or representative regarding status of applications and further instructions. All vessels shall contact the PATCOM on VHF-FM channels 16 or 22A prior to transiting to the spectator area to confirm entry approval. Vessels approved for spectator area access shall follow the instructions issued by the PATCOM when entering the regulated area. The regulations for this event will restrict access to some of the anchorage grounds listed at 33 CFR 110.158, Baltimore Harbor, MD. Specifically anchorage grounds:

(i) Anchorage No. 1, general anchorage;

(ii) Anchorage No. 2, general anchorage;

(iii) Anchorage No. 3 Upper, general anchorage; and

(iv) Anchorage No. 3 Lower, general anchorage.

Table to § 100.501
[All coordinates listed in the Table to § 100.501 Reference Datum NAD 1983.]
No./enforcement period(s) ¹ | Event | Sponsor | Location/special local regulation area
(a.) Coast Guard Sector Delaware Bay—COTP Zone
1. June—1st Sunday | Atlantic County Day at the Bay | Atlantic County, New Jersey | The waters of Great Egg Harbor Bay, adjacent to Somers Point, New Jersey, bounded by a line drawn along the following boundaries: The area is bounded to the north by the shoreline along John F. Kennedy Park and Somers Point, New Jersey; bounded to the east by the State Route 52 bridge; bounded to the south by a line that runs along latitude 39°18′00″ N., and bounded to the west by a line that runs along longitude 074°37′00″ W.
2. May—3rd Sunday; September—3rd Saturday | Annual Escape from Fort Delaware Triathlon | Escape from Fort Delaware Triathlon, Inc | All waters of the Delaware River between Pea Patch Island and Delaware City, Delaware, bounded by a line connecting the following points: Latitude 39°36′35.7″ N., longitude 075°35′25.6″ W., thence southeast to latitude 39°34′57.3″ N., longitude 075°33′23.1″ W., thence southwest to latitude 39°34′11.9″ N., longitude 075°34′28.6″ W., thence northwest to latitude 39°35′52.4″ N., longitude 075°36′33.9″ W., thence to point of origin.
3. June—last Saturday | Westville Parade of Lights | Borough of Westville and Westville Power Boat | All waters of Big Timber Creek in Westville, New Jersey from shoreline to shoreline bounded on the south from the Route 130 Bridge and to the north by the entrance of the Delaware River.
4. June—4th Sunday | OPA Atlantic City Grand Prix | Offshore Performance Assn. (OPA) | Regulated enforcement area—All waters of the North Atlantic Ocean encompassed within the following areas:
|  |  | Race area: All waters of the North Atlantic Ocean bounded by a line connecting the following points: latitude 39°21′31″ N., longitude 074°24′45″ W., thence east to latitude 39°21′08″ N., longitude 074°24′32″ W., thence southwest to latitude 39°20′21″ N., longitude 074°27′04.6″ W., thence northwest to latitude 39°20′45.6″ N., longitude 074°27′11.6″ W., thence northeast parallel to shoreline to point of origin.
|  |  | Buffer area: All waters of the North Atlantic Ocean bounded by a line connecting the following points: Latitude 39°21′46″ N., longitude 074°24′35″ W., thence east to latitude 39°21′06″ N., longitude 074°24′06″ W., thence southwest to latitude 39°20′06″ N., longitude 074°27′20″ W., thence northwest to latitude 39°20′40.6″ N., longitude 074°27′31.5″W., thence northeast along the shoreline to point of origin.
|  |  | Spectator area: All waters of the North Atlantic Ocean bounded by a line connecting the following points: Latitude 39°21′05.6 N., longitude 074°24′05.8″ W., thence east to latitude 39°20′52.1″ N., longitude 074°23′53.9″ W., thence southeast to latitude 39°19′51.6″ N., longitude 074°27′16.2″ W., thence northwest to latitude 39°20′05.6″ N., longitude 074°27′20″ W., thence northeast to point of origin.
5. July—on or about July 4th | U.S. holiday celebrations | City of Philadelphia | The waters of the Delaware River, adjacent to Philadelphia, PA and Camden, NJ, from shoreline to shoreline, bounded on the south by the Walt Whitman Bridge and bounded on the north by the Benjamin Franklin Bridge.
6. August—2nd Friday, Saturday and Sunday | Point Pleasant OPA/NJ Offshore Grand Prix | Offshore Performance Association (OPA) and New Jersey Offshore Racing Assn | Regulated enforcement area—All waters of the North Atlantic Ocean encompassed within the following areas: Race area: All waters of the North Atlantic Ocean bounded by a line connecting the following points: Latitude 39°59′41″ N., longitude 074°03′20″ W., thence east to latitude 39°59′28″ N., longitude 074°02′15″ W., thence southwest to latitude 39°56′41″ N., longitude 074°02′55″ W., thence west to latitude 39°56′45″ N., longitude 074°03′52″ W., thence north parallel to shoreline to point of origin.
|  |  | Buffer area: All waters of the North Atlantic Ocean bounded by a line connecting the following points: Latitude 40°00′00″ N., longitude 074°03′31″ W., thence east to latitude 39°59′41″ N., longitude 074°02′00″ W., thence southwest to latitude 39°56′28″ N., longitude 074°02′43″ W., thence west to latitude 39°56′31″ N., longitude 074°04′10″ W., thence north along the shoreline to point of origin.
|  |  | Spectator area: All waters of the North Atlantic Ocean bounded by a line connecting the following points: Latitude 39°59′41″ N., longitude 074°01′59″ W., thence east to latitude 39°59′39″ N., longitude 074°01′48″ W., thence southwest to latitude 39°56′27″ N., longitude 074°02′29″ W., thence west to latitude 39°56′28″ N., longitude 074°02′43″ W., thence north to point of origin.
7. May—3rd weekend, Saturday and Sunday | New Jersey Offshore Grand Prix | Offshore Performance Assn. & New Jersey Offshore Racing Assn | Regulated enforcement area—All waters of the North Atlantic Ocean encompassed within the following areas: Race area: All waters of the North Atlantic Ocean bounded by a line connecting the following points: Latitude 40°05′40″ N., longitude 074°01′59″ W., thence southeast to latitude 40°05′34″ N., longitude 074°01′40″ W., thence south to latitude 40°03′54″ N., longitude 074°02′07″ W., thence west to latitude 40°03′56″ N., longitude 074°02′24″ W., thence north and parallel to shoreline to point of origin.
|  |  | Buffer area: All waters of the North Atlantic Ocean bounded by a line connecting the following points: Latitude 40°05′55″ N., longitude 074°02′02″ W., thence southeast to latitude 40°05′44″ N., longitude 074°01′28″ W., thence south to latitude 40°03′42″ N., longitude 074°02′01″ W., thence west to latitude 40°03′44″ N., longitude 074°02′36″ W., thence north along the shoreline to point of origin.
|  |  | Spectator area: All waters of the North Atlantic Ocean bounded by a line connecting the following points: Latitude 40°05′44″ N., longitude 074°01′27″ W., thence east to latitude 40°05′42″ N., longitude 074°01′20″ W., thence southwest to latitude 40°03′42″ N., longitude 074°01′55″ W., thence west to latitude 40°03′42″ N., longitude 074°02′01″ W., thence north to point of origin.
8. August—3rd Tuesday and Wednesday | Thunder Over the Boardwalk Air show | Atlantic City Chamber of Commerce | The waters of the North Atlantic Ocean, adjacent to Atlantic City, New Jersey, bounded by a line drawn between the following points: From a point along the shoreline at latitude 39°21′31″ N., longitude 074°25′04″ W., thence southeasterly to latitude 39°21′08″ N., longitude 074°24′48″ W., thence southwesterly to latitude 39°20′16″ N., longitude 074°27′17″ W., thence northwesterly to a point along the shoreline at latitude 39°20′44″ N., longitude 074°27′31″ W., thence northeasterly along the shoreline to latitude 39°21′31″ N., longitude 074°25′04″ W.
9. October—1st Monday (Columbus Day) | U.S. holiday celebrations | City of Philadelphia | The waters of the Delaware River, adjacent to Philadelphia, PA and Camden, NJ, from shoreline to shoreline, bounded on the south by the Walt Whitman Bridge and bounded on the north by the Benjamin Franklin Bridge.
10. December 31st (New Year's Eve) | U.S. holiday celebrations | City of Philadelphia | The waters of the Delaware River, adjacent to Philadelphia, PA and Camden, NJ, from shoreline to shoreline, bounded on the south by the Walt Whitman Bridge and bounded on the north by the Benjamin Franklin Bridge.
11. September—2nd, 3rd or 4th Sunday | Ocean City Air Show | Ocean City, NJ | All waters of the New Jersey Intracoastal Waterway (ICW) bounded by a line connecting the following points: Latitude 39°15′57″ N., longitude 074°35′09″ W., thence northeast to latitude 39°16′34″ N., longitude 074°33′54″ W., thence southeast to latitude 39°16′17″ N., longitude 074°33′29″ W., thence southwest to latitude 39°15′40″ N., longitude 074°34′46″ W., thence northwest to point of origin, near Ocean City, NJ.
12. June—4th Sunday and August—2nd or 3rd Sunday. September—2nd or 3rd Saturday and Sunday | Atlantic City International Triathlon | Atlantic City, NJ | All waters of the New Jersey Intracoastal Waterway (ICW) bounded by a line connecting the following points: Latitude 39°21′20″ N., longitude 074°27′18″ W., thence northeast to latitude 39°21′27.47″ N., longitude 074°27′10.31″ W., thence northeast to latitude 39°21′33″ N., longitude 074°26′57″ W., thence northwest to latitude 39°21′37″ N., longitude 074°27′03″ W., thence southwest to latitude 39°21′29.88″ N., longitude 074°27′14.31″ W., thence south to latitude 39°21′19″ N., longitude 074°27′22″ W., thence east to latitude 39°21′18.14″ N., longitude 074°27′19.25″ W., thence north to point of origin, near Atlantic City, NJ.
(b.) Coast Guard Sector Maryland-National Capital Region—COTP Zone
1. March—4th or last Saturday; or April—1st Saturday | USNA Safety at Sea Seminar | U.S. Naval Academy | All waters of the Severn River from shoreline to shoreline, bounded to the northwest by the Naval Academy (SR-450) Bridge and bounded to the southeast by a line drawn from Triton Light at latitude 38°58′53.0″ N., longitude 076°28′34.4″ W., thence easterly to Carr Point, MD at latitude 38°58′58.7″ N., longitude 076°27′38.9″ W.
2. April—3rd, 4th and last Saturday and Sunday, and May—every Saturday and Sunday | USNA Crew Races | U.S. Naval Academy | All waters of the Severn River from shoreline to shoreline, bounded to the northwest by a line drawn from the south shoreline at latitude 39°00′58″ N., longitude 076°31′32″ W., thence to the north shoreline at latitude 39°01′11″ N., longitude 076°31′10″ W. The regulated area is bounded to the southeast by a line drawn from U.S. Naval Academy Light at latitude 38°58′39.5″ N., longitude 076°28′49″ W., thence easterly to Carr Point, MD at latitude 38°58′58″ N., longitude 076°27′41″ W.
3. July—3rd, 4th or last Saturday, or Sunday | Middle River Dinghy Poker Run | Norris Trust Foundation | The waters of Middle River, from shoreline to shoreline, within an area bounded to the north by a line drawn along latitude 39°19′33″ N., and bounded to the south by a line drawn from latitude 39°17′24.4″ N., longitude 076°23′53.3″ W., thence east to latitude 39°18′06.4″ N., longitude 076°23′10.9″ W., including all western tributaries that join Middle River, including Dark Head Creek, Hopkins Creek, Norman Creek, Hogpen Creek and Sue Creek, located in Baltimore County, at Essex, MD.
4. May—1st Sunday | Nanticoke River Swim and Triathlon | Nanticoke River Swim and Triathlon, Inc | All waters of the Nanticoke River, including Bivalve Channel and Bivalve Harbor, bounded by a line drawn from a point on the shoreline at latitude 38°18′38.8″ N., longitude 075°53′31.8″ W., thence westerly to latitude 38°18′39.8″ N., longitude 075°55′00″ W., thence northeasterly to latitude 38°19′57.7″ N., longitude 075°53′47.7″ W., thence easterly to latitude 38°19′42.3″ N., longitude 075°52′59.4″ W.
5. May—the Saturday before Memorial Day | Chestertown Tea Party Re-enactment | Chestertown Tea Party Festival | All waters of the Chester River, within a line connecting the following positions: Commencing at latitude 39°12′27″ N., longitude 076°03′46″ W., thence south to latitude 39°12′19″ N., longitude 076°03′53″ W., thence east to latitude 39°12′16″ N., longitude 076°03′48″ W., thence north to latitude 39°12′25″ N., longitude 076°03′41″ W., thence west to point of origin latitude 39°12′27″ N., longitude 076°03′46″ W., located at Chestertown, MD.
6. May—3rd Friday, Saturday and Sunday. June—2nd or 3rd Friday, Saturday and Sunday | Washington, DC Dragon Boat Festival | Taiwan—U.S. Cultural Association | The waters of the Upper Potomac River, Washington, DC, from shoreline to shoreline, bounded upstream by the Francis Scott Key Bridge and downstream by the Roosevelt Memorial Bridge, located at Georgetown, Washington, DC.
7. May—Tuesday and Wednesday before Memorial Day (observed) | USNA Blue Angels Air Show | U.S. Naval Academy | All waters of the Severn River from shoreline to shoreline, bounded to the northwest by a line drawn along the U.S. 50 fixed highway bridge. The regulated area is bounded to the southeast by a line drawn from U.S. Naval Academy Light at latitude 38°58′39.5″ N., longitude 076°28′49″ W., thence southeast to a point 1500 yards ESE of Chinks Point, MD at latitude 38°57′41″ N., longitude 076°27′36″ W., thence northeast to Greenbury Point at latitude 38°58′27.7″ N., longitude 076°27′16.4″ W.
|  |  | Spectator area: All waters of the Severn River bounded by a line commencing at latitude 38°58′38.2″ N., longitude 076°27′56.9″ W., thence southeast to latitude 38°58′24.9″ N., longitude 076°27′47.6″ W., thence west to latitude 38°58′22.3″ N., longitude 076°27′54.5″ W., thence northwest to latitude 38°58′28.3″ N., longitude 076°28′11″ W., thence east to point of origin. This area is located generally in the center portion of Middle Ground Anchorage, Severn River, MD. This spectator area is restricted to certain vessels as described in § 100.501 paragraph (g)(1).
8. June—2nd Sunday | The Great Chesapeake Bay Swim | The Great Chesapeake Bay Swim, Inc | The waters of the Chesapeake Bay between and adjacent to the spans of the William P. Lane Jr. Memorial Bridges from shoreline to shoreline, bounded to the north by a line drawn parallel and 500 yards north of the north bridge span that originates from the western shoreline at latitude 39°00′36.6″ N., longitude 076°23′55″ W., thence eastward to the eastern shoreline at latitude 38°59′14.2″ N., longitude 076°19′57.3″ W.; and bounded to the south by a line drawn parallel and 500 yards south of the south bridge span that originates from the western shoreline at latitude 39°00′18.4″ N., longitude 076°24′28.2″ W., thence eastward to the eastern shoreline at latitude 38°58′39.2″ N., longitude 076°20′8.8″ W.
9. April—last Saturday or Sunday | Bay Bridge Paddle | ABC Events, Inc | The waters of the Chesapeake Bay between and adjacent to the spans of the William P. Lane Jr. Memorial Bridges from shoreline to shoreline, bounded to the north by a line drawn parallel and 500 yards north of the north bridge span that originates from the western shoreline at latitude 39°00′36″ N., longitude 076°23′05″ W., thence eastward to eastern shoreline at latitude 38°59′14″ N., longitude 076°20′00″ W.; and bounded to the south by a line drawn parallel and 500 yards south of the south bridge span that originates from the western shoreline at latitude 39°00′16″ N., longitude 076°24′30″ W., thence eastward to eastern shoreline at latitude 38°58′38″ N., longitude 076°20′06″ W., located between Sandy Point and Kent Island, MD.
10. June—last Saturday and Sunday or July—2nd Saturday and Sunday | Bo Bowman Memorial—Sharptown Regatta | Carolina Virginia Racing Assn | Regulated enforcement area—All waters of the Nanticoke River encompassed within the following areas: Race area: All waters of the Nanticoke River commencing at a point at latitude 38°33′02″ N., longitude 075°42′44″ W., thence northwest to latitude 38°33′03″ N., longitude 075°42′45″ W., thence southwest to latitude 38°32′46″ N., longitude 075°43′08″ W., thence southeast to latitude 38°32′45″ N., longitude 075°43′07″ W., thence northeast to the point of origin.
|  |  | Race boat/participant access area: Located southwest and down river from the race area. From shoreline to shoreline and bound by a line commencing at latitude 38°32′37″ N., longitude 075°43′14″ W., thence northwest across the river to latitude 38°32′41.5″ N., longitude 075°43′19.3″ W., thence northeast to latitude 38°32′46″ N., longitude 075°43′14″ W., thence southeast along the Route 313 bridge to latitude 38°32′41.7″ N., longitude 075°43′08.2″ W., thence southwest to point of origin.
|  |  | Buffer area: All waters of the Nanticoke River bounded by a line connecting the following points: Commencing at latitude 38°33′02″ N., longitude 075°42′39″ W., thence southwest to latitude 38°32′42″ N., longitude 075°43′07″ W., thence northwest to latitude 38°32′47″ N., longitude 075°43′13″ W., thence northeast to latitude 38°33′07.5″ N., longitude 75°42′46″ W., thence southwest to the point of origin.
|  |  | Spectator area: All waters of the Nanticoke River bounded by the following points: Located northeast and up-river from the race area. From shoreline to shoreline and bound by a line commencing at latitude 38°33′08.5″ N., longitude 075°42′33.6″ W., thence southeasterly along the shoreline to latitude 38°33′02″ N., longitude 075°42′39″ W., thence across the river northwest to latitude 38°33′07.4″ N., longitude 075°42′46″ W., thence the northeast along the shoreline to latitude 38°33′13″ N., longitude 075°42′41.5″ W., thence southeast across the river to point of origin.
11. May/June—Saturday and Sunday after Memorial Day (observed); and October—1st Saturday and Sunday | Rock Hall and Waterman's Triathlon Swims | Kinetic Endeavors, LLC | The waters of Rock Hall Harbor from shoreline to shoreline, bounded by a line drawn from latitude 39°07′58.9″ N., longitude 076°15′02″ W., thence southeast and parallel along the harbor breakwall to latitude 39°07′50.1″ N., longitude 076°14′41.7″ W., located at Rock Hall, MD.
12. September—2nd Saturday or the Saturday after Labor Day. (biennial, even years) | Catholic Charities Dragon Boat Races | Associated Catholic Charities, Inc | The waters of the Patapsco River, within the Inner Harbor, from shoreline to shoreline, bounded on the east by a line drawn along longitude 076°36′30″ W., located at Baltimore, MD.
13. June—3rd, 4th or last Saturday or Sunday | Baltimore Dragon Boat Challenge | Baltimore Dragon Boat Club | The waters of Patapsco River, Northwest Harbor, in Baltimore, MD, from shoreline to shoreline, within an area bounded on the east by a line drawn along longitude 076°35′00″ W. and bounded on the west by a line drawn along longitude 076°36′42″ W.
14. May—2nd, 3rd 4th or last Saturday or Sunday. June—1st, 2nd or 3rd Saturday or Sunday | Oxford-Bellevue Sharkfest Swim | Enviro-Sports Productions Inc | The waters of the Tred Avon River from shoreline to shoreline, within an area bounded on the east by a line drawn from latitude 38°42′25″ N., longitude 076°10 ′45″ W., thence south to latitude 38°41′37″ N., longitude 076°10′26″ W., and bounded on the west by a line drawn from latitude 38°41′58″ N., longitude 076°11′04″ W., thence south to latitude 38°41′25″ N., longitude 076°10′49″ W., thence east to latitude 38°41′25″ N., longitude 076°10′30″ W., located at Oxford, MD.
15. June—1st Sunday | Washington's Crossing: Swim Across the Potomac | Wave One Swimming | The waters of the Potomac River, from shoreline to shoreline, bounded to the north by a line drawn that originates at Jones Point Park, VA at the west shoreline latitude 38°47′35″ N., longitude 077°02′22″ W., thence east to latitude 38°47′12″ N., longitude 077°00′58″ W., at east shoreline near National Harbor, MD. The regulated area is bounded to the south by a line drawn originating at George Washington Memorial Parkway highway overpass and Cameron Run, west shoreline latitude 38°47′23″ N., longitude 077°03′03″ W., thence east to latitude 38°46′52″ N., longitude 077°01′13″ W., at east shoreline near National Harbor, MD.
16. October—last Saturday; or November—1st or 2nd Saturday | The MRE Tug of War | Maritime Republic of Eastport | The waters of Spa Creek from shoreline to shoreline, extending 400 feet from either side of a rope spanning Spa Creek from a position at latitude 38°58′36″ N., longitude 076°29′04.7″ W. at Annapolis City Dock, thence to a position at latitude 38°58′25″ N., longitude 076°28′52.4″ W., at Eastport, MD shoreline, near the foot of 2nd Street.
17. December—2nd Saturday or Sunday | Eastport Yacht Club Lights Parade | Eastport Yacht Club | All waters of Spa Creek and the Severn River, shoreline to shoreline, bounded on the east by a line drawn from Triton Light, at latitude 38°58′53.1″ N., longitude 076°28′34.3″ W., thence southwest to Horn Point, at 38°58′20.9″ N., longitude 076°28′27.1″ W., and bounded on the west by a line drawn along 076°30′00″ W., that crosses the western end of Spa Creek, at Annapolis, MD.
18. Memorial Day weekend—Thursday, Friday, Saturday and Sunday; or Labor Day weekend—Thursday, Friday, Saturday and Sunday; or October—last Thursday, Friday, Saturday and Sunday | NAS Patuxent River Air Expo | NAS Patuxent River | All waters of lower Patuxent River, near Solomons, Maryland, located between Fishing Point and base of break wall marking the entrance to East Seaplane Basin at Naval Air Station Patuxent River (adjacent to approach for runway 14), within an area bounded by a line commencing near the shoreline at latitude 38°17′39″ N., longitude 076°25′47″ W., thence northwest to latitude 38°17′47″ N., longitude 076°26′00″ W., thence northeast to latitude 38°18′09″ N., longitude 076°25′40″ W., thence southeast to latitude 38°18′00″ N., longitude 076°25′25″ W., located near the shoreline at U.S. Naval Air Station Patuxent River, Maryland. All waters of Chesapeake Bay, located approximately 500 yards north of break wall marking entrance to Chesapeake Bay Basin, Naval Air Station Patuxent River (adjacent to approach for runway 32), within an area bounded by a line commencing near the shoreline at latitude 38°16′53.9″ N., longitude 076°23′29.2″ W., thence southeast to latitude 38°16′40″ N., longitude 076°23′05″ W., thence southwest to latitude 38°16′19″ N., longitude 076°23′25″ W., thence northwest to latitude 38°16′30.4″ N., longitude 076°23′44.9″ W., located near the shoreline at U.S. Naval Air Station Patuxent River, Maryland.
19. May—1st or 2nd Saturday and Sunday; September—2nd or 3rd, Saturday and Sunday | Ocean City Grand Prix | Offshore Powerboat Association | Regulated enforcement area: All waters of North Atlantic Ocean bounded within the following designated areas near Ocean City, MD. Race area: All waters of North Atlantic Ocean commencing at latitude 38°20′06.33″ N., longitude 075°04′39.09″ W., thence east to latitude 38°20′03.75″ N., longitude 075°04′27.46″ W., thence north and parallel to Ocean City, MD shoreline to latitude 38°21′32″ N., longitude 075°03′46.57″ W., thence west to shoreline at latitude 38°21′34.58″ N., longitude 075°04′00.95″ W., thence south to the point of origin.
|  |  | Buffer area: 500 yards in all directions surrounding the “Race area“. All waters of North Atlantic Ocean commencing at a point near the shoreline at latitude 38°21′52″ N., longitude 075°04′09″ W., thence east to latitude 38°21′44″ N., longitude 075°03′21″ W., thence southwest and parallel to Ocean City, MD shoreline latitude 38°19′47″ N., longitude 075°04′15″ W., thence west to the shoreline at latitude 38°19′55″ N., longitude 075°04′57″ W.
|  |  | Spectator area: Vessel operation restricted to operate at No Wake Speed. All waters of North Atlantic Ocean commencing at latitude 38°20′01″ N., longitude 075°04′08.4″ W., thence east to latitude 38°19′58″ N., longitude 075°03′57″ W., thence north and parallel to Ocean City shoreline to latitude 38°21′26″ N., longitude 075°03′16″ W., thence west to shoreline at latitude 38°21′29″ N., longitude 075°03′27.8″ W., thence south to the point of origin.
20. June—1st, 2nd or 3rd Thursday, Friday, Saturday and Sunday | Ocean City Air Show | Town of Ocean City, Maryland | All waters of the North Atlanta Ocean within an area bounded by the following coordinates: Commencing at a point near the shoreline in vicinity of 33rd Street, Ocean City, MD, latitude 38°21′48.8″ N., longitude 075°04′10″ W., thence eastward to latitude 38°21′32″ N., longitude 075°03′12″ W., thence south to latitude 38°19′22.7″ N., longitude 075°04′09.5″ W., thence west to latitude 38°19′38.5″ N., longitude 075°05′05.4″ W., thence north along the shoreline to point of origin, located adjacent to Ocean City, MD.
21. May—2nd Saturday and Sunday; Memorial Day weekend (Saturday and Sunday). July—last Saturday and Sunday | Cambridge Classic Powerboat Race | Cambridge Power Boat Regatta Association | Regulated enforcement area: All waters within Hambrooks Bay and Choptank River west and south of a line commencing at Great Marsh Point, latitude 38°35′06″ N., longitude 076°04′40.5″ W., thence northeast to latitude 38°35′22.7″ N., longitude 076°04′23.7″ W., thence northwest to latitude 38°35′42.2″ N., longitude 076°04′51.1″ W. at Hambrooks Bar Light LLNR 24995, thence southwest to latitude 38°35′34.2″ N., longitude 076°05′12.3″ W., terminating at the Hambrooks Bay breakwall as it intersects the shoreline.
|  |  | Race area: Located within the waters of Hambrooks Bay and Choptank River, in an area bound to the north by the Hambrooks Bay breakwall and bounded to the east by a line drawn along longitude 076°04′42″ W. The actual placement of the Race Area will be determined by the marine event sponsor within the designated boundaries described in this section.
|  |  | Buffer area: All waters within Hambrooks Bay and Choptank River (with the exception of the Race Area designated by the marine event sponsor) bound to the north by the breakwall and continuing along a line drawn from the east end of breakwall located at latitude 38°35′27.6″ N., longitude 076°04′50.1″ W., thence east to latitude 38°35′22.7″ N., longitude 076°04′23.7″ W., thence southwest to Great Marsh Point located at latitude 38°35′06″ N., longitude 076°04′40.6″ W.
|  |  | Spectator area: All waters of the Choptank River, eastward and outside of Hambrooks Bay breakwall, thence bound by line that commences at latitude 38°35′25″ N., longitude 076°04′51″ W., thence east to latitude 38°35′22″ N., longitude 076°04′36″ W., thence southeast to latitude 38°35′19″ N. longitude 076°04′33″ W., thence northeast to latitude 38°35′22.7″ N. longitude 076°04′23.7″ W.
22. July—4th or last Saturday and Sunday | Southern Maryland Boat Club Summer Regatta | Southern Maryland Boat Club | All waters of Breton Bay, immediately adjacent to Leonardtown, MD shoreline, from shoreline to shoreline, within an area bounded to the east by a line drawn along latitude 38°16′43″ N., and bounded to the west by a line drawn along longitude 076°38′29.5″ W., located at Leonardtown, MD.
|  |  | Race area: The race area is rectangular in shape measuring approximately 200 yards by 870 yards. The area is bounded by a line commencing at position latitude 38°17′07.2″ N., longitude 076°38′17.3″ W., thence southeast to latitude 38°16′55.3″ N., longitude 076°37′48″ W., thence southwest to latitude 38°16′50.1″ N., longitude 076°37′51.3″ W., thence northwest to latitude 38°17′01.9″ N., longitude 076°38′21″ W., thence northeast to point of origin.
|  |  | Buffer area: The area surrounds the entire race area described in the preceding paragraph of this section. This area is rectangular in shape and provides a buffer of approximately 125 yards around the perimeter of the race area. The area is bounded by a line commencing at position latitude 38°17′12″ N., longitude 076°38′19.6″ W., thence southeast to latitude 38°16′57″ N., longitude 076°37′40.5″ W., thence southwest to latitude 38°16′44.8″ N., longitude 076°37′48.2″ W., thence northwest to latitude 38°17′00.2″ N., longitude 076°38′27.8″ W., thence northeast to point of origin.
|  |  | Spectator area: A. The area is bounded by a line commencing at position latitude 38°16′52.1″ N., longitude 076°38′14.2″ W., thence northeast to latitude 38°16′54″ N., longitude 076°38′12.5″ W., thence southeast to latitude 38°16′48.6″ N., longitude 076°37′59.3″ W., thence southwest to latitude 38°16′47.4″ N., longitude 076°37′59.3″ W., thence northwest along the shoreline to point of origin.
|  |  | B. The area is bounded by a line commencing at position latitude 38°16′59.1″ N., longitude 076°37′45.6″ W., thence southeast to latitude 38°16′57.1″ N., longitude 076°37′40.2″ W., thence southwest to latitude 38°16′54.3″ N., longitude 076°37′41.9″ W., thence southeast to latitude 38°16′51.8″ N., longitude 076°37′36.4″ W., thence northeast to latitude 38°16′55.2″ N., longitude 076°37′34.2″ W., thence northwest to latitude 38°16′59.2″ N., longitude 076°37′37.2″ W., thence west to latitude 38°17′01.7″ N., longitude 076°37′43.7″ W., thence south to point of origin.
|  |  | C. The area is bounded by a line commencing at position latitude 38°16′47.2″ N., longitude 076°37′54.8″ W., thence south to latitude 38°16′43.3″ N., longitude 076°37′55.2″ W., thence east to latitude 38°16′43.2″ N., longitude 076°37′47.8″ W., thence north to latitude 38°16′44.7″ N., longitude 076°37′48.5″ W., thence northwest to point of origin.
23. October—Thursday, Friday, Saturday and Sunday after Columbus Day (observed). (biennial, even years) | Baltimore Air Show | Historic Ships in Baltimore, Inc | Regulated area: All waters of the Patapsco River, within an area bounded by a line connecting position latitude 39°16′00″ N., longitude 076°36′30″ W., thence east to latitude 39°16′00″ N., longitude 076°33′00″ W., thence south to latitude 39°14′30″ N., longitude 076°33′00″ W., thence west to latitude 39°14′30″ N., longitude 076°36′30″ W., thence north to point of origin, located between Port Covington and Seagirt Marine Terminal, Baltimore, MD.
|  |  | Spectator Area: All waters of Patapsco River located between the northern boundary defined by a line drawn from the vicinity of North Locust Point Marine Terminal, Pier 1 thence east to Canton Industrial area, Pier 5; the south boundary is defined by a line drawn from vicinity of Whetstone Point thence east to Lazaretto Point. This area is located generally where Northwest Harbor, East Channel joins Patapsco River, Fort McHenry Channel, near Fort McHenry National Monument, Baltimore, MD. This area is bound by a line to the north commencing at position latitude 39°16′01″ N., longitude 076°34′46″ W., thence east to latitude 39°16′01″ N., longitude 076°34′09″ W., and bound by a line to the south commencing at position latitude 39°15′39″ N., longitude 076°35′23″ W., thence east to latitude 39°15′26″ N., longitude 076°34′03″ W. This spectator area is restricted to certain vessels as described in § 100.501 paragraph (g)(2).
(c.) Coast Guard Sector Hampton Roads—COTP Zone
1. May—last Friday, Saturday and Sunday and/or June—1st Friday, Saturday and Sunday. October—3rd and 4th weekend. | Blackbeard Festival, Battle of Hampton | City of Hampton | The waters of Sunset Creek and Hampton River shoreline to shoreline bounded to the north by the I-64 Bridge over the Hampton River and bounded to the south by a line drawn from Hampton River Channel Light 16 (LL 10945), located at latitude 37°01″03″ N., longitude 076°20′24″ W., thence west across the Hampton River to finger pier at Bluewater Yacht Center, located at latitude 37°01′03″ N., longitude 076°20′28″ W. Spectator Vessel Anchorage Areas—Area A: Located in the upper reaches of the Hampton River, bounded to the south by a line drawn from the western shoreline at latitude 37°01′46.6″ N., longitude 076°20′21.3″ W., thence east across the river to latitude 37°01′42.6″ N., longitude 076°20′12.3″ W., and bounded to the north by the I-64 Bridge over the Hampton River. The anchorage area will be marked by orange buoys.
|  |  | Area B: Located along the eastern side of the Hampton River channel, south of the route 60/143 bridge and Joy's Marina, and adjacent to the shoreline that fronts the Riverside Health Center. Bounded by the shoreline and a line drawn between the following points: latitude 37°01′27.6″ N., longitude 076°20′23.1″ W., thence south to latitude 37°01′22.9″ N., longitude 076°20′26.1″ W. The anchorage area will be marked by orange buoys.
2. June—1st Friday, Saturday and Sunday or 2nd Friday, Saturday and Sunday | Norfolk Harborfest | Norfolk Festevents, Ltd | The waters of the Elizabeth River and its branches from shoreline to shoreline, bounded to the northwest by a line drawn across the Port Norfolk Reach section of the Elizabeth River between the north corner of the landing at Hospital Point, Portsmouth, Virginia, latitude 36°50′51.6″ N., longitude 076°18′07.9″ W., and the north corner of the City of Norfolk Mooring Pier at the foot of Brooks Avenue located at latitude 36°51′00.3″ N., longitude 076°17′51″ W.; bounded on the southwest by a line drawn from the southern corner of the landing at Hospital Point, Portsmouth, Virginia, at latitude 36°50′50.9″ N., longitude 076°18′07.7″ W., to the northern end of the eastern most pier at the Tidewater Yacht Agency Marina, located at latitude 36°50′33.6″ N., longitude 076°17′54.1″ W.; bounded to the south by a line drawn across the Lower Reach of the Southern Branch of the Elizabeth River, between the Portsmouth Lightship Museum located at the foot of London Boulevard, in Portsmouth, Virginia at latitude 36°50′13.2″ N., longitude 076°17′44.8″ W., and the northwest corner of the Norfolk Shipbuilding & Drydock, Berkley Plant, Pier No. 1, located at latitude 36°50′08.8″ N., longitude 076°17′37.5″ W.; and to the southeast by the Berkley Bridge which crosses the Eastern Branch of the Elizabeth River between Berkley at latitude 36°50′21.5″ N., longitude 076°17′14.5″ W., and Norfolk at latitude 36°50′35″ N., longitude 076°17′10″ W.
3. June—2nd or 3rd Saturday | Cock Island Race | Portsmouth Boat Club & City of Portsmouth, VA | The waters of the Elizabeth River and its branches from shoreline to shoreline, bounded to the northwest by a line drawn across the Port Norfolk Reach section of the Elizabeth River between the northern corner of the landing at Hospital Point, Portsmouth, Virginia, latitude 36°50′51.6″ N., longitude 076°18′07.9″ W. and the north corner of the City of Norfolk Mooring Pier at the foot of Brooks Avenue located at latitude 36°51′00.3″ N., longitude 076°17′51″ W.; bounded on the southwest by a line drawn from the southern corner of the landing at Hospital Point, Portsmouth, Virginia, at latitude 36°50′50.9″ N., longitude 076°18′07.7″ W., to the northern end of the eastern most pier at the Tidewater Yacht Agency Marina, located at latitude 36°50′33.6″ N., longitude 076°17′54.1″ W.; bounded to the south by a line drawn across the Lower Reach of the Southern Branch of the Elizabeth River, between the Portsmouth Lightship Museum located at the foot of London Boulevard, in Portsmouth, Virginia at latitude 36°50′13.2″ N., longitude 076°17′44.8″ W., and the northwest corner of the Norfolk Shipbuilding & Drydock, Berkley Plant, Pier No. 1, located at latitude 36°50′08.8″ N., longitude 076°17′37.5″ W.; and bounded to the southeast by the Berkley Bridge which crosses the Eastern Branch of the Elizabeth River between Berkley at latitude 36°50′21.5″ N., longitude 076°17′14.5″ W., and Norfolk at latitude 36°50′35″ N., longitude 076°17′10″ W.
4. June—last Saturday or July—1st Saturday | RRBA Spring Radar Shootout | Rappahannock River Boaters Association (RRBA) | All waters of Rappahannock River, adjacent to Layton, VA, from shoreline to shoreline, bounded on the west by a line running along longitude 076°58′30″ W., and bounded on the east by a line running along longitude 076°56′00″W.
|  |  | Buffer area: The waters of Rappahannock River extending 200 yards outwards from east and west boundary lines described in this section.
|  |  | Spectator area: The regulated area cannot accommodate spectator vessels due to limitations posed by shallow water and insufficient waters to provide adequate separation between race course and other vessels. Spectators are encouraged to view the race from points along the adjacent shoreline.
5. July—last Wednesday and following Friday; or August—1st Wednesday and following Friday | Pony Penning Swim | Chincoteague Volunteer Fire Department | The waters of Assateague Channel from shoreline to shoreline, bounded to the east by a line drawn from latitude 37°55′01″ N., longitude 075°22′40″ W., thence south to latitude 37°54′50″ N., longitude 075°22′46″ W.; and to the southwest by a line drawn from latitude 37°54′54″ N., longitude 075°23′00″ W., thence east to latitude 37°54′49″ N., longitude 075°22′49″ W.
6. August 1st or 2nd Friday, Saturday and Sunday. September 4th Saturday and Sunday | Hampton Cup Regatta | Hampton Cup Regatta Boat Club | Regulated enforcement area—All waters of Mill Creek, adjacent and north of Fort Monroe, Hampton, Virginia. The regulated area includes the following areas: Race area: All waters within the following boundaries: to the north, a line drawn along latitude 37°01′03″ N., to the east a line drawn along longitude 076°18′30″ W., to the south a line drawn parallel with the Fort Monroe shoreline, and west boundary is parallel with the Route 258—East Mercury Boulevard Bridge-causeway.
|  |  | Buffer area A: All waters bounded by a line connecting the following points: latitude 37°00′43″ N., longitude 076°18′54″ W., thence north along the causeway to latitude 37°01′03″ N., longitude 076°18′52″ W., thence southwest to latitude 37°01′00″ N., longitude 076°18′54″ W., thence south to Route 143 causeway at latitude 37°00′44″ N., longitude 076°18′58″ W., thence east along the shoreline to point of origin.
|  |  | Buffer area B: All waters bounded by a line connecting the following points: latitude 37°01′08″ N., longitude 076°18′49″ W., thence east to latitude 37°01′08″ N., longitude 076°18′23″ W., thence south to latitude 37°00′33″ N., longitude 076°18 ′23″ W., thence west to latitude 37°00′33″ N., longitude 076°18′30″ W., thence north to latitude 37°01′03″ N., longitude 076°18′30″ W., thence west to latitude 37°01′03″ N., longitude 076°18′49″ W., thence north to point of origin.
|  |  | Spectator area: All waters bounded by a line connecting the following points: latitude 37°01′08″ N., longitude 076°18′23″ W., thence east to latitude 37°01′08″ N., longitude 076°18′14″ W., thence south to latitude 37°00′54″ N., longitude 076°18′14″ W., thence southwest to latitude 37°00′54″ N., longitude 076°18′14″ W., thence north to point of origin.
7. September 1st Friday, Saturday and Sunday or 2nd Friday, Saturday and Sunday | Hampton Virginia Bay Days Festival | Hampton Bay Days Inc | The waters of Sunset Creek and Hampton River shoreline to shoreline bounded to the north by the I-64 Bridge over the Hampton River and bounded to the south by a line drawn from Hampton River Channel Light 16 (LL 10945), located at latitude 37°01′03″ N., longitude 076°20′24″ W., thence west to the finger pier across the river at Bluewater Yacht Center, located at latitude 37°01′03″ N., longitude 076°20′28″ W.
8. September—last Sunday or October—1st or 2nd Sunday | Poquoson Seafood Festival Workboat Races | City of Poquoson | The waters of the Back River, Poquoson, Virginia. Race area: The area is bounded on the north by a line drawn along latitude 37°06′30″ N., bounded on the south by a line drawn along latitude 37°06′15″ N., bounded on the east by a line drawn along longitude 076°18′52″ W. and bounded on the west by a line drawn along longitude 076°19′30″ W.
|  |  | Buffer area: The waters of Back River extending 200 yards outwards from east and west boundary lines, and 100 yards outwards from the north and south boundary lines described in this section.
|  |  | Spectator area: Is located along the south boundary line of the buffer area described in this section and continues to the south for 300 yards.
9. June—3rd Saturday and Sunday or 4th Saturday and Sunday | Mattaponi Drag Boat Race | Mattaponi Volunteer Rescue Squad and Dive Team | All waters of Mattaponi River immediately adjacent to Rainbow Acres Campground, King and Queen County, Virginia. The regulated area includes a section of the Mattaponi River approximately three-quarter mile long and bounded in width by each shoreline, bounded to the east by a line that runs parallel along longitude 076°52′43″ W., near the mouth of Mitchell Hill Creek, and bounded to the west by a line that runs parallel along longitude 076°53′41″ W. just north of Wakema, Virginia.
|  |  | Buffer area: The waters of Mattaponi River extending 200 yards outwards from east and west boundary lines described in this section. Spectator area: The regulated area cannot accommodate spectator vessels due to limitations posed by shallow water and insufficient waters to provide adequate separation between race course and other vessels. Spectators are encouraged to view the race from points along the adjacent shoreline.
10. June—2nd or 3rd Saturday or Sunday | Virginia Boat Club (VBC) Sprints Regatta on the James River | Virginia Boat Club, Richmond, VA | All waters of the James River in the vicinity of Robious Landing Park, Midlothian, VA. The regulated area includes a section of the James River approximately 1300 yards long and bounded in width by each shoreline, bounded to the east by a line that runs parallel along longitude 077°38″04″ W., and bounded to the west by a line that runs parallel along longitude 077°38′54″ W., north of Robious Landing Park.
(d.) Coast Guard Sector North Carolina—COTP Zone
1. September—4th or last Saturday and or Sunday | Swim the Loop and Motts Channel Sprint | Without Limits Coaching, Inc | All waters surrounding Harbor Island, NC including Intracoastal waterway, Lees Cut, Banks Channel and Motts Channel. Enforcement area extends approximately 100 yards from the shoreline of Harbor Island and is bounded by a line connecting the following points: Latitude 34°12′55″ N., longitude 077°48′59″ W., thence northeast to latitude 34°13′16″ N., longitude 077°48′39″ W., thence southeast to latitude 34°13′06″ N., longitude 077°48′18″ W., thence east to latitude 34°13′;12″ N., longitude 077°47′41″ W., thence southeast to latitude 34°13′06″ N., longitude 077°47′33″ W., thence south to latitude 34°12′31″ N., longitude 077°47′47″ W., thence southwest to latitude 34°12′11″ N., longitude 077°48′01″ W., thence northwest to latitude 34°12′29″ N., longitude 077°48′29″ W., thence north to latitude 34°12′44″ N., longitude 077°48′32″ W., thence northwest to point of origin.
2. September—3rd, 4th or last Saturday; October—last Saturday; November—1st and or 2nd Saturday | Wilmington YMCA Triathlon | Wilmington, NC, YMCA | All waters of Motts Channel, from shoreline to shoreline and between Wrightsville Channel Day beacon 14 (LLNR 30220), located at latitude 34°12′17.8″ N., longitude 077°48′09.1″ W., thence westward to Wrightsville Channel Day beacon 25 (LLNR 30255), located at latitude 34°12′52.1″ N., longitude 077°48′53.5″ W.
3. August—2nd Saturday | The Crossing | Organization to Support the Arts, Infrastructure, and Learning on Lake Gaston, AKA O'SAIL | All waters of Lake Gaston, from shoreline to shoreline, directly under the length of Eaton Ferry Bridge (NC State Route 903), commencing at the southern bridge entrance at latitude 36°30′38″ N., longitude 077°57′53″ W., and extending to the northern bridge entrance at latitude 36°31′19″ N., longitude 077°57′33″ W., and bounded to the west by a line drawn parallel and 100 yards from and the western side of Eaton Ferry Bridge near Littleton, NC.
4. October—3rd, 4th or last Friday or Saturday | PPD Ironman North Carolina | Ironman, Wilmington, NC | All waters of Masonboro Inlet, shoreline to shoreline starting at location latitude 34°11′13″ N., longitude 077°48′53″ W., thence north along Banks Channel to latitude 34°12′14″ N., longitude 077°48′04″ W., thence west to Motts channel, terminating at Sea Path Marina at latitude 34°12′44″ N., longitude 077°48′25″ W., Wrightsville Beach, NC.
¹ As noted in paragraph (f) of this section, the enforcement period for each of the listed special local regulations is subject to change.

PART 165—REGULATED NAVIGATION AREAS AND LIMITED ACCESS AREAS

5. The authority citation for part 165 continues to read as follows:

Authority: 33 U.S.C. 1231; 50 U.S.C. 191, 33 CFR 1.05-1, 6.04-1, 6.04-6, 160.5; Department of Homeland Security Delegation No. 0170.1.

§ 165.T05-0330 [Removed]

6. Remove § 165.T05-0330.

§ 165.T05-0495 [Removed]

7. Remove § 165.T05-0495.

§ 165.T05-0723 [Removed]

8. Remove § 165.T05-0723.

9. Revise § 165.506 to read as follows:

§ 165.506 Safety Zones; Fireworks Displays in the Fifth Coast Guard District.

(a) Regulations. (1) The general regulations contained in 33 CFR 165.23 apply.

(2) This section applies to the fireworks safety zones listed in the Table to § 165.506. These regulations will be enforced annually, for the duration of each fireworks event listed in the Table to § 165.506. In the case of inclement weather, the event may be conducted on the day following the date listed in the Table to § 165.506. Annual notice of the exact dates and times of the enforcement period of the regulation with respect to each safety zone, the geographical area, and other details concerning the nature of the fireworks event will be published in Local Notices to Mariners and via Broadcast Notice to Mariners over VHF-FM marine band radio.

(3) All persons and vessels shall comply with the instructions of the Coast Guard Captain of the Port, the Coast Guard Patrol Commander, or the designated on-scene-patrol personnel. Those personnel are comprised of commissioned, warrant, and petty officers of the U.S. Coast Guard. Other Federal, State, and local agencies may assist these personnel in the enforcement of the safety zone. Upon being hailed by a U.S. Coast Guard vessel by siren, radio, flashing light or other means, the operator of a vessel shall proceed as directed.

(b) Notification. (1) Fireworks barges and launch sites on land that operate within the regulated areas contained in the Table to § 165.506 will have a sign affixed to the port and starboard side of the barge or mounted on a post 3 feet above ground level when on land immediately adjacent to the shoreline and facing the water labeled “FIREWORKS—DANGER—STAY AWAY”. This will provide on-scene notice that the safety zone will be enforced on that day. This notice will consist of a diamond shaped sign 4 feet by 4 feet with a 3-inch orange retro reflective border. The word “DANGER” shall be 10 inch black block letters centered on the sign with the words “FIREWORKS” and “STAY AWAY” in 6 inch black block letters placed above and below the word “DANGER” respectively on a white background.

(2) Coast Guard Captains of the Port in the Fifth Coast Guard District will notify the public of the enforcement of these safety zones by all appropriate means to affect the widest publicity among the affected segments of the public. Publication in the Local Notice to Mariners, Marine information broadcasts, and facsimile broadcasts may be made for these events, beginning 24 to 48 hours before the event is scheduled to begin, to notify the public.

(c) Contact information. Questions about safety zones and related events should be addressed to the local Coast Guard Captain of the Port for the area in which the event is occurring. Contact information is listed below. For a description of the geographical area of each Coast Guard Sector—Captain of the Port zone, please see 33 CFR 3.25.

(1) Coast Guard Sector Delaware Bay—Captain of the Port Zone, Philadelphia, Pennsylvania: (215) 271-4940.

(2) Coast Guard Sector Maryland-National Capital Region—Captain of the Port Zone, Baltimore, Maryland: (410) 576-2525.

(3) Coast Guard Sector Hampton Roads—Captain of the Port Zone, Norfolk, Virginia: (757) 483-8567.

(4) Coast Guard Sector North Carolina—Captain of the Port Zone, Wilmington, North Carolina: (877) 229-0770 or (910) 362-4015.

(d) Enforcement periods. The safety zones in the Table to § 165.506 will be enforced from 5:30 p.m. to 1 a.m. each day a barge with a “FIREWORKS—DANGER—STAY AWAY” sign on the port and starboard side is on-scene or a “FIREWORKS—DANGER—STAY AWAY” sign is posted on land adjacent to the shoreline, in a location listed in the Table to § 165.506. Vessels may not enter, remain in, or transit through the safety zones during these enforcement periods unless authorized by the Captain of the Port or designated Coast Guard patrol personnel on scene. The enforcement periods for each Safety Zone in the Table to § 165.506 of this section are subject to change, but the duration of enforcement would remain the same or nearly the same total amount of time as stated in its table. In the event of a change, or for enforcement periods listed that do not allow a specific date or dates to be determined, the Captain of the Port will provide notice by publishing a Notice of Enforcement in the Federal Register, as well as issuing a Broadcast Notice to Mariners.

Table to § 165.506
[All coordinates listed in the Table to § 165.506 reference Datum NAD 1983.]
No./enforcement period(s) 1 | Location | Safety zone—regulated area
(a.) Coast Guard Sector Delaware Bay—COTP Zone
1 July 2nd, 3rd, 4th or 5th | North Atlantic Ocean, Bethany Beach, DE; Safety Zone | The waters of the North Atlantic Ocean within a 500 yard radius of the fireworks barge in approximate position latitude 38°32′08″ N., longitude 075°03′15″ W., adjacent to shoreline of Bethany Beach, DE.
2 Labor Day | Indian River Bay, DE; Safety Zone | All waters of the Indian River Bay within a 700 yard radius of the fireworks launch location on the pier in approximate position latitude 38°36′42″ N., longitude 075°08′18″ W.
3 July 2nd, 3rd or 4th | North Atlantic Ocean, Rehoboth Beach, DE; Safety Zone | All waters of the North Atlantic Ocean within a 360 yard radius of the fireworks barge in approximate position latitude 38°43′01.2″ N., longitude 075°04′21″ W., approximately 400 yards east of Rehoboth Beach, DE.
4 July 2nd, 3rd, 4th or 5th | North Atlantic Ocean, Avalon, NJ; Safety Zone | The waters of the North Atlantic Ocean within a 500 yard radius of the fireworks barge in approximate location latitude 39°06′19.5″ N., longitude 074°42′02.15″ W., in the vicinity of the shoreline at Avalon, NJ.
5 July 2nd, 3rd, or 4th; September 1st, or 2nd Saturday | Barnegat Bay, Barnegat Township, NJ; Safety Zone | The waters of Barnegat Bay within a 500 yard radius of the fireworks barge in approximate position latitude 39°44′50″ N., longitude 074°11′21″ W., approximately 500 yards north of Conklin Island, NJ.
6 July 2nd, 3rd, 4th or 5th | North Atlantic Ocean, Cape May, NJ; Safety Zone | The waters of the North Atlantic Ocean within a 500 yard radius of the fireworks barge in approximate location latitude 38°55′36″ N., longitude 074°55′26″ W., immediately adjacent to the shoreline at Cape May, NJ.
7 July 2nd, 3rd, 4th or 5th | Delaware Bay, North Cape May, NJ; Safety Zone | All waters of the Delaware Bay within a 360 yard radius of the fireworks barge in approximate position latitude 38°58′00″ N., longitude 074°58′30″ W.
8 July 2nd, 3rd, 4th or 5th. August—3rd Sunday | Great Egg Harbor Inlet, Margate City, NJ; Safety Zone | All waters within a 500 yard radius of the fireworks barge in approximate location latitude 39°19′33″ N., longitude 074°31′28″ W., on the Intracoastal Waterway near Margate City, NJ.
9 July 2nd, 3rd, 4th or 5th August every Thursday; September 1st Thursday | Metedeconk River, Brick Township, NJ; Safety Zone | The waters of the Metedeconk River within a 300 yard radius of the fireworks launch platform in approximate position latitude 40°03′24″ N., longitude 074°06′42″ W., near the shoreline at Brick Township, NJ.
10 July 2nd, 3rd, 4th or 5th | North Atlantic Ocean, Atlantic City, NJ; Safety Zone | The waters of the North Atlantic Ocean within a 500 yard radius of the fireworks barge located at latitude 39°20′58″ N., longitude 074°25′58″ W., and within 500 yard radius of a fireworks barge located at latitude 39°21′12″ N., longitude 074°25′06″ W., near the shoreline at Atlantic City, NJ.
11 July 2nd, 3rd, 4th or 5th. October—1st or 2nd Saturday | North Atlantic Ocean, Ocean City, NJ; Safety Zone | The waters of the North Atlantic Ocean within a 500 yard radius of the fireworks barge in approximate location latitude 39°16′22″ N., longitude 074°33′54″ W., in the vicinity of the shoreline at Ocean City, NJ.
12 May—4th Saturday | Barnegat Bay, Ocean Township, NJ; Safety Zone | All waters of Barnegat Bay within a 500 yard radius of the fireworks barge in approximate position latitude 39°47′33″ N., longitude 074°10′46″ W.
13 July 2nd, 3rd, 4th or 5th | Little Egg Harbor, Parker Island, NJ; Safety Zone | All waters of Little Egg Harbor within a 500 yard radius of the fireworks barge in approximate position latitude 39°34′18″ N., longitude 074°14′43″ W., approximately 50 yards north of Parkers Island.
14 September—3rd Saturday | Delaware River, Chester, PA; Safety Zone | All waters of the Delaware River near Chester, PA just south of the Commodore Barry Bridge within a 250 yard radius of the fireworks barge located in approximate position latitude 39°49′43.2″ N., longitude 075°22′42″ W.
15 September—3rd Saturday | Delaware River, Essington, PA; Safety Zone | All waters of the Delaware River near Essington, PA, west of Little Tinicum Island within a 250 yard radius of the fireworks barge located in the approximate position latitude 39°51′18″ N., longitude 075°18′57″ W.
16 July 2nd, 3rd, 4th or 5th; Columbus Day; December 31st, January 1st | Delaware River, Philadelphia, PA; Safety Zone | All waters of Delaware River, adjacent to Penns Landing, Philadelphia, PA, bounded from shoreline to shoreline, bounded on the south by a line running east to west from points along the shoreline at latitude 39°56′31.2″ N., longitude 075°08′28.1″ W., thence to latitude 39°56′29.1″ N., longitude 075°07′56.5″ W., and bounded on the north by the Benjamin Franklin Bridge.
17 July 2nd, 3rd, 4th or 5th | N. Atlantic Ocean, Sea Isle City, NJ; Safety Zone | All waters of N. Atlantic Ocean within a 350 yard radius of a fireworks barge located approximately at position latitude 39°08′49.5″ N., longitude 074°41′25.1″ W., near Sea Isle City, NJ.
18 April 8th; July 2nd, 3rd, 4th or 5th; December 31st | Rehoboth Bay, DE; Safety Zone | All waters within a 500 yard radius of a fireworks barge located at position latitude 38°41′21″ N., longitude 075°05′00″ W., at Rehoboth Bay near Dewey Beach, DE.
(b.) Coast Guard Sector Maryland-National Capital Region—COTP Zone
1 April—1st, 2nd or 3rd Saturday | Washington Channel, Upper Potomac River, Washington, DC; Safety Zone | All waters of the Upper Potomac River within 170 yards radius of the fireworks barge in approximate position latitude 38°52′20.3″ N., longitude 077°01′17.5″ W., located within the Washington Channel in Washington Harbor, DC.
2 July 4th; December—1st and 2nd Saturday; December 31st | Severn River and Spa Creek, Annapolis, MD; Safety Zone | All waters of the Severn River and Spa Creek within a 300 yard radius of the fireworks barge in approximate position 38°58′41.76″ N., 076°28′34.2″ W., located near the entrance to Spa Creek, Annapolis, MD.
3 December 31st | Upper Potomac River, Washington, DC; Safety Zone | All waters of the Upper Potomac River within a 300 yard radius of the fireworks barge in approximate position 38°48′14″ N., 077°02′10″ W., located near the waterfront (King Street) at Alexandria, Virginia.
4 June 14th; July 4th; September—2nd Saturday; December 31st | Northwest Harbor (East Channel), Patapsco River, MD; Safety Zone | All waters of the Patapsco River within a 300 yard radius of the fireworks barge in approximate position 39°15′55″ N., 076°34′35″ W., located adjacent to the East Channel of Northwest Harbor.
5 April—1st Tuesday; May—2nd or 3rd Thursday or Friday; July 4th; December 31st | Baltimore Inner Harbor, Patapsco River, MD; Safety Zone | All waters of the Patapsco River within a 100 yard radius of the fireworks barge in approximate position latitude 39°17′01″ N., longitude 076°36′31″ W., located at the entrance to Baltimore Inner Harbor, approximately 125 yards southwest of pier 3.
6 April—1st Tuesday; May—2nd or 3rd Thursday or Friday; July 4th December 31st | Baltimore Inner Harbor, Patapsco River, MD; Safety Zone | The waters of the Patapsco River within a 100 yard radius of approximate position latitude 39°17′04″ N., longitude 076°36′36″ W., located in Baltimore Inner Harbor, approximately 125 yards southeast of pier 1.
7 July 4th; December 31st | Northwest Harbor (West Channel) Patapsco River, MD; Safety Zone | All waters of the Patapsco River within a 300 yard radius of the fireworks barge in approximate position latitude 39°16′21″ N., longitude 076°34′38″ W., located adjacent to the West Channel of Northwest Harbor.
8 July 4th, or Saturday before, or Friday after Independence Day holiday | Patuxent River, Calvert County, MD; Safety Zone | All waters of the Patuxent River within a 200 yard radius of the fireworks barge located at latitude 38°19′17″ N., longitude 076°27′45″ W., approximately 800 feet from shore at Solomons Island, MD.
9 July 4th or Sunday before Independence Day holiday | Chesapeake Bay, Chesapeake Beach, MD; Safety Zone | All waters of the Chesapeake Bay within a 200 yard radius of the fireworks barge in approximate position latitude 38°41′36″ N., longitude 076°31′30″ W., and within a 200 yard radius of the fireworks barge in approximate position latitude 38°41′28″ N., longitude 076°31′29″ W., located near Chesapeake Beach, Maryland.
10 July 4th | Choptank River, Cambridge, MD; Safety Zone | All waters of the Choptank River within a 300 yard radius of the fireworks launch site at Great Marsh Point, located at latitude 38°35′06″ N., longitude 076°04′46″ W.
11 July—2nd, 3rd or last Saturday | Potomac River, Fairview Beach, Charles County, MD; Safety Zone | All waters of the Potomac River within a 300 yard radius of the fireworks barge in approximate position latitude 38°19′57″ N., longitude 077°14′40″ W., located north of the shoreline at Fairview Beach, Virginia.
12 July—day before Independence Day holiday July 4th | Potomac River, National Harbor, MD; Safety Zone | All waters of the Potomac River within an area bound by a line drawn from the following points: Latitude 38°47′13″ N., longitude 077°00′58″ W., thence to latitude 38°46′51″ N., longitude 077°01′15″ W., thence to latitude 38°47′25″ N., longitude 077°01′33″ W., thence to latitude 38°47′32″ N., longitude 077°01′08″ W., thence to the point of origin, located at National Harbor, Maryland.
13 Sunday before or after July 4th, July 4th | Susquehanna River, Havre de Grace, MD; Safety Zone | All waters of the Susquehanna River within a 300 yard radius of approximate position latitude 39°32′06″ N., longitude 076°05′22″ W., located on the island at Millard Tydings Memorial Park.
14 The Saturday before Independence Day holiday occurring in June or July | Miles River, St. Michaels, MD; Safety Zone | All waters of the Miles River within a 200 yard radius of approximate position latitude 38°47′42″ N., longitude 076°12′51″ W., located at the entrance to Long Haul Creek.
15 July 3rd | Tred Avon River, Oxford, MD; Safety Zone | All waters of the Tred Avon River within a 150 yard radius of the fireworks barge in approximate position latitude 38°41′24″ N., longitude 076°10′37″ W., approximately 500 yards northwest of the waterfront at Oxford, MD.
16 July 3rd | Northeast River, North East, MD; Safety Zone | All waters of the Northeast River within a 300 yard radius of the fireworks barge in approximate position latitude 39°35′26″ N., longitude 075°57′00″ W., approximately 400 yards south of North East Community Park.
17 July—1st, 2nd or 3rd Saturday | Upper Potomac River, Washington, DC; Safety Zone | All waters of the Upper Potomac River within a 300 yard radius of the fireworks barge in approximate position 38°48′38″ N., 077°01′56″ W., located east of Oronoco Bay Park at Alexandria, Virginia.
18 March through October, at the conclusion of evening MLB games at Washington Nationals Ball Park | Anacostia River, Washington, DC; Safety Zone | All waters of the Anacostia River within a 150 yard radius of the fireworks barge in approximate position latitude 38°52′13″ N., longitude 077°00′16″ W., located near the Washington Nationals Ball Park.
19 June—last Saturday or July—1st Saturday; July—3rd, 4th or last Saturday; September—Saturday before Labor Day (observed) | Potomac River, Prince William County, VA; Safety Zone | All waters of the Potomac River within a 200 yard radius of the fireworks barge in approximate position latitude 38°34′09″ N., longitude 077°15′32″ W., located near Cherry Hill, Virginia.
20 July 4th | North Atlantic Ocean, Ocean City, MD; Safety Zone | All waters of the North Atlantic Ocean in an area bound by the following points: Latitude 38°19′39.9″ N., longitude 075°05′03.2″ W.; thence to latitude 38°19′36.7″ N., longitude 075°04′53.5″ W.; thence to latitude 38°19′45.6″ N., longitude 075°04′49.3″ W.; thence to latitude 38°19′49.1″ N., longitude 075°05′00.5″ W.; thence to point of origin. The size of the safety zone extends approximately 300 yards offshore from the fireworks launch area located at the high water mark on the beach.
21 July 4th and Sunday before Labor Day (observed) | Isle of Wight Bay, Ocean City, MD; Safety Zone | All waters of Isle of Wight Bay within a 200 yard radius of the fireworks barge in approximate position latitude 38°22′31″ N., longitude 075°04′34″ W.
22 July 4th | Assawoman Bay, Fenwick Island—Ocean City, MD; Safety Zone | All waters of Assawoman Bay within a 360 yard radius of the fireworks launch location on the pier at the West end of Northside Park, in approximate position latitude 38°25′55″ N., longitude 075°03′53″ W.
23 April—1st Tuesday. July 4th; December 31st | Baltimore Harbor, Baltimore Inner Harbor, MD; Safety Zone | All waters of Baltimore Harbor, Patapsco River, within a 280 yard radius of a fireworks barge in approximate position latitude 39°16′36.7″ N., longitude 076°35′53.8″ W., located northwest of the Domino Sugar refinery wharf at Baltimore, Maryland.
24 Thursday before July 4th (observed); and or July 4th | Chester River, Kent Island Narrows, MD, Safety Zone | All waters of Chester River, Kent Narrows North Approach, within a 300 yard radius of the fireworks launch site at Kent Island in approximate position latitude 38°58′44.4″ N., longitude 076°14′51.7″ W., in Queen Anne's County, MD.
(c.) Coast Guard Sector Hampton Roads—COTP Zone
1 July 4th | Linkhorn Bay, Virginia Beach, VA, Safety Zone | All waters of the Linkhorn Bay within a 400 yard radius of the fireworks display in approximate position latitude 36°52′20″ N., longitude 076°00′38″ W., located near the Cavalier Golf and Yacht Club, Virginia Beach, Virginia.
2 September—last Friday or October—1st Friday | York River, West Point, VA, Safety Zone | All waters of the York River near West Point, VA within a 400 yard radius of the fireworks display located in approximate position latitude 37°31′25″ N., longitude 076°47′19″ W.
3 July 4th | York River, Yorktown, VA, Safety Zone | All waters of the York River within a 400 yard radius of the fireworks display in approximate position latitude 37°14′14″ N., longitude 076°30′02″W., located near Yorktown, Virginia.
4 July 4th, July 5th, July 6th, or July 7th | James River, Newport News, VA, Safety Zone | All waters of the James River within a 325 yard radius of the fireworks barge in approximate position latitude 36°58′30″ N., longitude 076°26′19″ W., located in the vicinity of the Newport News Shipyard, Newport News, Virginia.
5 June—1st and 4th Friday; July—1st Friday; July 4th | Chesapeake Bay, Norfolk, VA, Safety Zone | All waters of the Chesapeake Bay within a 400 yard radius of the fireworks display located in position latitude 36°57′21″ N., longitude 076°15′00″ W., located near Ocean View Fishing Pier.
6 July 4th or 5th | Chesapeake Bay, Virginia Beach, VA, Safety Zone | All waters of the Chesapeake Bay 400 yard radius of the fireworks display in approximate position latitude 36°55′02″ N., longitude 076°03′27″ W., located at the First Landing State Park at Virginia Beach, Virginia.
7 July 4th; December 31st, January 1st | Elizabeth River, Southern Branch, Norfolk, VA, Safety Zone | All waters of the Elizabeth River Southern Branch in an area bound by the following points: Latitude 36°50′54.8″ N., longitude 076°18′10.7″ W.; thence to latitude 36°51′7.9″ N., longitude 076°18′01″ W.; thence to latitude 36°50′45.6″ N., longitude 076°17′44.2″ W.; thence to latitude 36°50′29.6″ N., longitude 076°17′23.2″ W.; thence to latitude 36°50′7.7″ N., longitude 076°17′32.3″ W.; thence to latitude 36°49′58″ N., longitude 076°17′28.6″ W.; thence to latitude 36°49′52.6″ N., longitude 076°17′43.8″ W.; thence to latitude 36°50′27.2″ N., longitude 076°17′45.3″ W. thence to the point of origin.
8 July—3rd and or 4th Saturday | John H. Kerr Reservoir, Clarksville, VA, Safety Zone | All waters of John H. Kerr Reservoir within a 400 yard radius of approximate position latitude 36°37′51″ N., longitude 078°32′50″ W., located near the center span of the State Route 15 Highway Bridge.
9 June, July, August, and September—every Wednesday, Thursday, Friday, Saturday and Sunday. July 4th. | North Atlantic Ocean, Virginia Beach, VA, Safety Zone A | All waters of the North Atlantic Ocean within a 1000 yard radius of the center located near the shoreline at approximate position latitude 36°51′12″ N., longitude 075°58′06″ W., located off the beach between 17th and 31st streets.
10 September—last Saturday or October—1st Saturday | North Atlantic Ocean, VA Beach, VA, Safety Zone B | All waters of the North Atlantic Ocean within a 350 yard radius of approximate position latitude 36°50′35″ N., longitude 075°58′09″ W., located on the 14th Street Fishing Pier.
11 Friday, Saturday and Sunday Labor Day Weekend | North Atlantic Ocean, VA Beach, VA, Safety Zone C | All waters of the North Atlantic Ocean within a 350 yard radius of approximate position latitude 36°49′55″ N., longitude 075°58′00″ W., located off the beach between 2nd and 6th streets.
12 July 4th | Nansemond River, Suffolk, VA, Safety Zone | All waters of the Nansemond River within a 350 yard radius of approximate position latitude 36°44′27″ N., longitude 076°34′42″ W., located near Constant's Wharf in Suffolk, VA.
13 July 4th | Chickahominy River, Williamsburg, VA, Safety Zone | All waters of the Chickahominy River within a 400 yard radius of the fireworks display in approximate position latitude 37°14′50″ N., longitude 076°52′17″ W., near Barrets Point, Virginia.
14 July—3rd, 4th and 5th | Great Wicomico River, Mila, VA, Safety Zone | All waters of the Great Wicomico River located within a 140 yard radius of the fireworks display at approximate position latitude 37°50′31″ N., longitude 076°19′42″ W. near Mila, Virginia.
15 >July—1st Friday, Saturday and Sunday | Cockrell's Creek, Reedville, VA, Safety Zone | All waters of Cockrell's Creek located within a 140 yard radius of the fireworks display at approximate position latitude 37°49′54″ N., longitude 076°16′44″ W. near Reedville, Virginia.
16 May—last Sunday | James River, Richmond, VA, Safety Zone | All waters of the James River located within a 140 yard radius of the fireworks display at approximate position latitude 37°31′13.1″ N., longitude 077°25′07.84″ W., near Richmond, Virginia.
17 June—last Saturday | Rappahannock River, Tappahannock, VA, Safety Zone | All waters of the Rappahannock River located within a 140 yard radius of the fireworks display at approximate position latitude 37°55′12″ N., longitude 076°49′12″ W. near Tappahannock, Virginia.
18 July 4th, August—1st Friday, Saturday and Sunday, and December 31st | Cape Charles Harbor, Cape Charles, VA, Safety Zone | All waters of Cape Charles Harbor located within a 125 yard radius of the fireworks display at approximate position latitude 37°15′46.5″ N., longitude 076°01′30.3″ W. near Cape Charles, Virginia.
19 July 3rd or 4th | Pagan River, Smithfield, VA, Safety Zone | All waters of the Pagan River located within a 140 yard radius of the fireworks display at approximate position latitude 36°59′18″ N., longitude 076°37′45″ W., near Smithfield, Virginia.
20 July 4th | Sandbridge Shores, Virginia Beach, VA, Safety Zone | All waters of Sandbridge Shores located within a 100 yard radius of the fireworks display at approximate position latitude 36°43′24.9″ N., longitude 075°56′24.9″ W., near Virginia Beach, Virginia.
21 July 4th, 5th or 6th | Chesapeake Bay, Virginia Beach, VA, Safety Zone | All waters of Chesapeake Bay located within a 200 yard radius of the fireworks display at approximate position latitude 36°54′58.18″ N., longitude 076°06′44.3″ W., near Virginia Beach, Virginia.
22 July 3rd, 4th and 5th | Urbanna Creek, Urbanna, VA; Safety Zone | All waters of Urbanna Creek within a 120 yard radius of the fireworks launch site at latitude 37°38′09″ N., longitude 076°34′03″ W., located on land near the east shoreline of Urbanna Creek and south of Bailey Point.
23 >April through August; every Wednesday, Thursday, Friday and Saturday; July 2nd, 3rd, 4th, or 5th; last Sunday in August; and Friday, Saturday and Sunday of Labor Day weekend | Elizabeth River Eastern Branch, Norfolk, VA; Safety Zone | All waters of Eastern Branch Elizabeth River within the area along the shoreline immediately adjacent to Harbor Park Stadium ball park and outward into the river bound by a line drawn from latitude 36°50′30″ N., longitude 076°16′39.9″ W., thence south to 36°50′26.6″ N., longitude 076°16′39″ W., thence northwest to 36°50′28.8″ N., longitude 076°16′49.1′ W., thence north to 36°50′30.9″ N., longitude 076°16′48.6″ W., thence east along the shoreline to point of origin.
(d.) Coast Guard Sector North Carolina—COTP Zone
1 July 4th; October—1st Saturday | Morehead City Harbor Channel, NC, Safety Zone | All waters of the Morehead City Harbor Channel that fall within a 360 yard radius of latitude 34°43′01″ N., longitude 076°42′59.6″ W., a position located at the west end of Sugar Loaf Island, NC.
2 April—2nd Saturday; July 4th; August—3rd Monday; October—1st Saturday | Cape Fear River, Wilmington, NC, Safety Zone | All waters of the Cape Fear River within an area bound by a line drawn from the following points: Latitude 34°13′54″ N., longitude 077°57′06″ W.; thence northeast to latitude 34°13′57″ N., longitude 077°57′05″ W.; thence north to latitude 34°14′11″ N., longitude 077°57′07″ W.; thence northwest to latitude 34°14′22″ N., longitude 077°57′19″ W.; thence east to latitude 34°14′22″ N., longitude 077°57′06″ W.; thence southeast to latitude 34°14′07″ N., longitude 077°57′00″ W.; thence south to latitude 34°13′54″ N., longitude 077°56′58″ W.; thence to the point of origin, located approximately 500 yards north of Cape Fear Memorial Bridge.
3 July 1st Saturday and July 4th | Green Creek and Smith Creek, Oriental, NC, Safety Zone | All waters of Green Creek and Smith Creek that fall within a 300 yard radius of the fireworks launch site at latitude 35°01′29.6″ N., longitude 076°42′10.4″ W., located near the entrance to the Neuse River in the vicinity of Oriental, NC.
4 July 4th | Pasquotank River, Elizabeth City, NC, Safety Zone | All waters of the Pasquotank River within a 300 yard radius of the fireworks launch barge in approximate position latitude 36°17′47″ N., longitude 076°12′17″ W., located approximately 400 yards north of Cottage Point, NC.
5 July 4th, or July 5th | Currituck Sound, Corolla, NC, Safety Zone | All waters of the Currituck Sound within a 300 yard radius of the fireworks launch site in approximate position latitude 36°22′23.8″ N., longitude 075°49′56.3″, located near Whale Head Bay.
6 July 4th November—3rd Saturday | Middle Sound, Figure Eight Island, NC, Safety Zone | All waters of the Figure Eight Island Causeway Channel from latitude 34°16′32″ N., longitude 077°45′32″ W., thence east along the marsh to latitude 34°16′19″ N., longitude 077°44′55″ W., thence south to the causeway at latitude 34°16′16″ N., longitude 077°44′58″ W., thence west along the shoreline to latitude 34°16′29″ N., longitude 077°45′34″ W., thence back to the point of origin.
7 June—2nd Saturday; July 4th | Pamlico River, Washington, NC, Safety Zone | All waters of Pamlico River and Tar River within a 300 yard radius of latitude 35°32′25″ N., longitude 077°03′42″ W., a position located on the southwest shore of the Pamlico River, Washington, NC.
8 July 4th | Neuse River, New Bern, NC, Safety Zone | All waters of the Neuse River within a 360 yard radius of the fireworks barge in approximate position latitude 35°06′07.1″ N., longitude 077°01′35.8″ W.; located 420 yards north of the New Bern, Twin Span, high-rise bridge.
9 July 4th. November—Saturday following Thanksgiving Day | Motts Channel, Banks Channel, Wrightsville Beach, NC, Safety Zone | All waters of Motts Channel within a 500 yard radius of the fireworks launch site in approximate position latitude 34°12′29″ N., longitude 077°48′27″ W., approximately 560 yards south of Sea Path Marina, Wrightsville Beach, NC.
10 July 4th | Cape Fear River, Southport, NC, Safety Zone | All waters of the Cape Fear River within a 600 yard radius of the fireworks barge in approximate position latitude 33°54′40″ N., longitude 078°01′18″ W., approximately 700 yards south of the waterfront at Southport, NC.
11 July 4th | Big Foot Slough, Ocracoke, NC, Safety Zone | All waters of Big Foot Slough within a 300 yard radius of the fireworks launch site in approximate position latitude 35°06′54″ N., longitude 075°59′24″ W., approximately 100 yards west of the Silver Lake Entrance Channel at Ocracoke, NC.
12 August—1st Tuesday | New River, Jacksonville, NC, Safety Zone | All waters of the New River within a 300 yard radius of the fireworks launch site in approximate position latitude 34°44′45″ N., longitude 077°26′18″ W., approximately one half mile south of the Hwy 17 Bridge, Jacksonville, North Carolina.
13 July 4th, October—2nd Saturday | Atlantic Intracoastal Waterway, Swansboro, NC, Safety Zone | All waters of the Atlantic Intracoastal Waterway within a 300 yard radius of approximate position latitude 34°41′02″ N., longitude 077°07′04″ W., located on Pelican Island.
14 September—4th or last Saturday | Shallowbag Bay, Manteo, NC; Safety Zone | All waters of Shallowbag Bay within a 200 yard radius of a fireworks barge anchored at latitude 35°54′31″ N., longitude 075°39′42″ W.
1 As noted in paragraph (d) of this section, the enforcement period for each of the listed safety zones is subject to change.

§ 165.540 [Removed]

10. Remove § 165.540.

Dated: May 31, 2017.
Meredith L. Austin,
Rear Admiral, U.S. Coast Guard, Commander, Fifth Coast Guard District.

[FR Doc. 2017-12112 Filed 6-12-17; 8:45 am]

BILLING CODE 9110-04-P